INTERNATIONAL TRADE COMMISSION

[Investigations Nos. 731-TA-1082 and 1083 (Preliminary)]

Chlorinated Isocyanurates From China and Spain

Determinations

On the basis of the record ¹ developed in the subject investigations, the United States International Trade Commission (Commission) determines, pursuant to section 733(a) of the Tariff Act of 1930 (19 U.S.C. 1673b(a)) (the Act), that there is a reasonable indication that an industry in the United States is materially injured by reason of imports from China and Spain of chlorinated isocyanurates, provided for in subheading 2933.69.60 of the Harmonized Tariff Schedule of the United States, that are alleged to be sold in the United States at less than fair value (LTFV).

¹ The record is defined in § 207.2(f) of the Commission's Rules of Practice and Procedure (19 CFR 207.2(f)).

Commencement of Final Phase Investigations

Pursuant to § 207.18 of the Commission's rules, the Commission also gives notice of the commencement of the final phase of its investigations. The Commission will issue a final phase notice of scheduling, which will be published in the Federal Register as provided in § 207.21 of the Commission's rules, upon notice from the Department of Commerce (Commerce) of affirmative preliminary determinations in the investigations under section 733(b) of the Act, or, if the preliminary determinations are negative, upon notice of affirmative final determinations in the investigations under section 735(a) of the Act. Parties that filed entries of appearance in the preliminary phase of the investigations need not enter a separate appearance for the final phase of the investigations. Industrial users, and, if the merchandise under investigation is sold at the retail level, representative consumer organizations have the right to appear as parties in Commission antidumping and countervailing duty investigations. The Secretary will prepare a public service list containing the names and addresses of all persons, or their representatives, who are parties to the investigations.

Background

On May 14, 2004, a petition was filed with the Commission and Commerce by Clearon Corp., Fort Lee, NJ, and Occidental Chemical Corp., Dallas, TX, alleging that an industry in the United States is materially injured by reason of LTFV imports of chlorinated isocyanurates from China and Spain. Accordingly, effective May 14, 2004, the Commission instituted antidumping duty investigations Nos. 731-TA-1082 and 1083 (Preliminary).

Notice of the institution of the Commission's investigations and of a public conference to be held in connection therewith was given by posting copies of the notice in the Office of the Secretary, U.S. International Trade Commission, Washington, DC, and by publishing the notice in the Federal Register of May 21, 2004 (69 FR 29328). The conference was held in Washington, DC, on June 4, 2004, and all persons who requested the opportunity were permitted to appear in person or by counsel.

The Commission transmitted its determinations in these investigations to the Secretary of Commerce on June 28, 2004. The views of the Commission are contained in USITC Publication 3705 (July 2004), entitled Chlorinated Isocyanurates from China and Spain: Investigations Nos. 731-TA-1082 and 1083 (Preliminary).

Issued: June 29, 2004.
By order of the Commission.
Marilyn R. Abbott,
Secretary to the Commission.

[FR Doc. 04-15110 Filed 7-1-04; 8:45 am]

BILLING CODE 7020-02-P